INTERNATIONAL TRADE COMMISSION

[Investigation No. TA-421-1]

Pedestal Actuators

Determination

On the basis of information developed in the subject investigation, the United States International Trade Commission determines, pursuant to section 421(b)(1) of the Trade Act of 1974,¹ that pedestal actuators ² from the People's Republic of China are being imported into the United States in such increased quantities or under such conditions as to cause market disruption to the domestic producers of like or directly competitive products.³

¹ 19 U.S.C. 2451(b)(1).

² For purposes of this investigation, pedestal actuators consist of electromechanical linear actuators, imported with or without motors, or as part of scooter subassemblies, all the foregoing used for lifting and lowering, or for pushing or pulling. The products under investigation include any subassembly of pedestal actuator parts and components. Pedestal actuators are powered by fractional horsepower DC or AC motors, which drive a ball bearing screw or acme screw through a gear reducer to convert rotary to linear motion. The products are designed for flat or base mounting, have telescoping members, with bearings or bearing surfaces, and rigidly support the load and provide anti-rotation. Pedestal actuators are provided for in subheadings 8483.40.50 and 8483.40.80 and in heading 8501 of the Harmonized Tariff System of the United States.

³ Chairman Deanna Tanner Okun and Commissioner Lynn M. Bragg make a negative determination.

Proposals With Respect to Remedy ⁴

⁴ Chairman Deanna Tanner Okun and Commissioner Lynn M. Bragg, having made negative determinations regarding market disruption, were not eligible to vote on remedy.

Vice Chairman Jennifer A. Hillman and Commissioner Marcia E. Miller propose that the President impose a quantitative restriction for a three-year period on imports of the subject pedestal actuators from China, in the amount of 5,626 units in the first year; 6,470 units in the second year; and 7,440 units in the third year.

Commissioner Stephen Koplan proposes that the President impose a quantitative restriction on pedestal actuators imported into the United States from China in the amount of 4,425 units in the first year; 4,514 units in the second year; and 4,604 units in the third year.

The Commissioners find that the respective actions that they propose are necessary to remedy the market disruption found to exist.

Background

Following receipt of a petition filed on August 19, 2002 on behalf of Motion Systems Corporation, the Commission instituted investigation No. TA-421-1, Pedestal Actuators From China, under section 421 of the Trade Act of 1974 to determine whether pedestal actuators from China are being imported into the United States in such increased quantities or under such conditions as to cause or threaten to cause market disruption to the domestic producers of like or directly competitive products.

Notice of the institution of the Commission's investigation and of the scheduling of a public hearing to be held in connection therewith was given by posting a copy of the notice on the Commission's Web site (www.usitc.gov) and by publishing the notice in the Federal Register of August 26, 2002 (67 FR 54822). The hearing was held on October 1, 2002 in Washington, DC; all persons who requested the opportunity were permitted to appear in person or by counsel.

The Commission transmitted its determination to the President and U.S. Trade Representative on October 18, 2002; it transmitted its remedy proposals to the President and U.S. Trade Representative on November 7, 2002. The views of the Commission are contained in USITC Publication 3557 (November 2002), entitled Pedestal Actuators from China: Investigation No. TA-421-1.

By order of the Commission.
Issued: November 13, 2002.
Marilyn R. Abbott,
Secretary to the Commission.

[FR Doc. 02-29220 Filed 11-15-02; 8:45 am]

BILLING CODE 7020-02-P